DEPARTMENT OF HOUSING AND URBAN DEVELOPMENT

[Docket No. FR-5807-C-02]

Proposed Fair Market Rents for the Housing Choice Voucher Program, Moderate Rehabilitation Single Room Occupancy Program and Other Programs Fiscal Year 2015—Corrected Schedule B Addendum

AGENCY: Office of the Assistant Secretary for Policy Development and Research, HUD.

ACTION: Notice of Proposed Fiscal Year (FY) 2015 Fair Market Rents (FMRs)—Corrected Schedule B Addendum.

SUMMARY: On August 15, 2014, HUD published for public comment proposed Fair Market Rents (FMRs) for the Housing Choice Voucher Program, Moderate Rehabilitation Single Room Occupancy Program and Other Programs for Fiscal Year 2015. After publication, HUD noted that the Schedule B Addendum, which addresses small area FMRs, did not include small area FMRs for Dallas, Texas. This notice provides the corrected Schedule B Addendum. No other changes are made by this notice. The public comment due date remains September 15, 2014.

FOR FURTHER INFORMATION CONTACT: Marie L. Lihn or Peter B. Kahn of the Economic and Market Analysis Division, Office of Economic Affairs, Office of Policy Development and Research at HUD headquarters, 451 7th Street SW., Room 8208, Washington, DC 20410; telephone number 202-402-2409 (this is not a toll-free number), or they may be reached at emad-hq@hud.gov. Persons with hearing or speech impairments may access HUD numbers through TTY by calling the toll-free Federal Relay Service at 800-877-8339.

SUPPLEMENTARY INFORMATION: On August 15, 2014, at 79 FR 48168, HUD published proposed FMRs for FY 2015. In this notice, HUD advised that public housing authorities in the Dallas, TX HMFA, along with the Housing Authority of the County of Cook (IL), the City of Long Beach (CA) Housing Authority, the Chattanooga, TN, Housing Authority, the Town of Mamaroneck (NY) Housing Authority, and the Laredo, TX Housing Authority continue to be the only PHAs managing their voucher programs using Small Area Fair Market Rents (SAFMRs). August 15, 2014, notice provided that the Small Area FMRs are listed in the notice's Schedule B addendum. (See 79 FR 48182.) Unfortunately the Schedule B addendum published on August 15, 2014, inadvertently excluded the Small Area FMRs for Dallas, Texas. This notice provides the corrected Schedule B Addendum.

Dated: August 20, 2014.
Edward J. Szymanoski,
Associate Deputy Assistant Secretary for Economic Affairs.

BILLING CODE 4210-67-P

[FR Doc. 2014-20212 Filed 8-25-14; 8:45 am]

BILLING CODE 4210-67-C